DEPARTMENT OF HEALTH AND HUMAN SERVICES

National Institutes of Health

Eunice Kennedy Shriver National Institute of Child Health & Human Development; Notice of Meeting

Pursuant to section 1009 of the Federal Advisory Committee Act, as amended, notice is hereby given of a meeting of the Board of Scientific Counselors Eunice Kennedy Shriver National Institute of Child Health and Human Development.

The meeting will be open to the public as indicated below. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the Eunice Kennedy Shriver National Institute of Child Health and Human Development, including consideration of personnel qualifications and performance, and the competence of individual investigators, the disclosure of which would constitute a clearly unwarranted invasion of personal privacy.

Name of Committee: Board of Scientific Counselors Eunice Kennedy Shriver National Institute of Child Health and Human Development.

Date: June 6, 2025.

Open: 10:00 a.m. to 1:30 p.m.

Agenda: Scientific Director's Report on the status of the NICHD Division of Intramural Research and current organizational structure.

Address: Eunice Kennedy Shriver National Institute of Child Health and Human Development, National Institutes of Health, 31 Center Drive, Room 2A03, Bethesda, MD 20892 (Virtual Meeting).

Closed: 1:30 p.m. to 3:45 p.m.

Agenda: To review and evaluate personnel qualifications and performance, and competence of individual investigators.

Address: Eunice Kennedy Shriver National Institute of Child Health and Human Development, National Institutes of Health, 31 Center Drive, Room 2A03, Bethesda, MD 20892 (Virtual Meeting).

Contact Person: Chris J. McBain, Ph.D., Scientific Director, Eunice Kennedy Shriver National Institute of Child Health and Human Development, National Institutes of Health, 31 Center Drive, Room 2A03, Bethesda, MD 20892, (301) 594-5984, email: mcbainc@mail.nih.gov.

Information is also available on the Institute's/Center's home page: https://www.nichd.nih.gov/about/advisory/bsc, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: March 24, 2025.
Bruce A. George,
Program Analyst, Office of Federal Advisory Committee Policy.

[FR Doc. 2025-05320 Filed 3-27-25; 8:45 am]

BILLING CODE 4140-01-P